DEPARTMENT OF AGRICULTURE

Forest Service

Sierra County, CA, Resource Advisory Committee

AGENCY: Forest Service, USDA.

ACTION: Notice of past meeting.

SUMMARY: The Sierra County Resource Advisory Committee (RAC) met for the first time on November 26, 2001, in Downieville, California. The purpose of the meeting was to discuss issues relating to implementing the Secure Rural Schools and Community Self-Determination Act of 2000 (Payments to States) and the expenditure of Title II funds benefiting National Forest System lands on the Humboldt-Toiyabe, Plumas and Tahoe National Forests in Sierra County.

DATES: The meeting was held November 26, 2001 from 3:15 p.m. to 6:15 p.m.

ADDRESSES: The meeting was held at the Downieville Community Hall, Downieville, CA.

FOR FURTHER INFORMATION CONTACT: Ann Westling, Committee Coordinator, USDA, Tahoe National Forest, 631 Coyote St, Nevada City, CA, 95959, (530) 478-6205, E-mail: awestling@fs.fed.us.

SUPPLEMENTARY INFORMATION: Agenda items covered included: (1) An Overview of Payments to States Act, Pub. L. 106-393 was provided; (2) Organizational guidelines for the Sierra County RAC were developed by group; (3) Planning processes for projects in Sierra County were discussed; (4) Preliminary project ideas were presented; (7) Public comment was not taken as no members of the public were still in attendance toward the end of the meeting. The meeting was open to the public.

Dated: December 11, 2001.
Steven T. Eubanks,
Forest Supervisor.

[FR Doc. 01-31202 Filed 12-18-01; 8:45 am]

BILLING CODE 3410-11-M